DEPARTMENT OF HEALTH AND HUMAN SERVICES

Health Resources and Services Administration

Agency Information Collection Activities: Proposed Collection: Public Comment Request; Information Collection Request Title: HRSA Ryan White HIV/AIDS Program HIV Quality Measures Module, OMB No. 0906-0022—Extension

AGENCY: Health Resources and Services Administration (HRSA), Department of Health and Human Services (HHS).

ACTION: Notice.

SUMMARY: In compliance with of the Paperwork Reduction Act of 1995, HRSA has submitted an Information Collection Request (ICR) to the Office of Management and Budget (OMB) for review and approval. Comments submitted during the first public review of this ICR will be provided to OMB. OMB will accept further comments from the public during the review and approval period. OMB may act on HRSA's ICR only after the 30-day comment period for this Notice has closed.

DATES: Comments on this ICR should be received no later than October 24, 2022.

ADDRESSES: Written comments and recommendations for the proposed information collection should be sent within 30 days of publication of this notice to www.reginfo.gov/public/do/PRAMain. Find this particular information collection by selecting “Currently under Review—Open for Public Comments” or by using the search function.

FOR FURTHER INFORMATION CONTACT: To request a copy of the clearance requests submitted to OMB for review, email Samantha Miller, the HRSA Information Collection Clearance Officer at paperwork@hrsa.gov, or call (301) 443-9094.

SUPPLEMENTARY INFORMATION:

Information Collection Request Title: HIV Quality Measures (HIVQM) Module OMB No. 0906-0022—Extension.

Abstract: HRSA's Ryan White HIV/AIDS Program (RWHAP) funds and coordinates with cities, states, and local clinics/community-based organizations to deliver efficient and effective HIV care, treatment, and support services to low-income people with HIV. Since 1990, the RWHAP has developed a comprehensive system of safety net providers who deliver high quality direct health care and support services to over half a million people with HIV—more than 50 percent of all people diagnosed with HIV in the United States. Nearly two-thirds of clients live at or below 100 percent of the federal poverty level and approximately three-quarters of RWHAP clients are racial/ethnic minorities.¹

¹ HRSA. Ryan White HIV/AIDS Program Data Report (RSR) 2020.

RWHAP Parts A, B, C and D recipients and subrecipients must follow the legislative requirements for the establishment of clinical quality management programs to assess the extent to which their HIV services are consistent with the most recent HHS Clinical Treatment guidelines. In support of these requirements, HRSA created the RWHAP HIVQM Module as an online tool to assist recipients in meeting the clinical quality management program requirement by allowing recipients to input data for the HRSA performance measures. HRSA maintains over 40 performance measures across the following categories: (1) core, (2) all ages, (3) adolescent/adult, (4) HIV-infected children, (5) HIV-exposed children, (6) medical case management, (7) oral health, (8) AIDS drug assistance program, and (9) systems-level. The RWHAP HIVQM Module also supports the requirement imposed by the Uniform Administrative Requirements, Cost Principles, and Audit Requirements for HHS Award (45 CFR 75.301) that recipients relate performance accomplishments of their federal awards. The RWHAP HIVQM Module helps recipients set goals and monitor performance measures and quality improvement projects. The use of the RWHAP HIVQM Module is voluntary for RWHAP recipients but strongly encouraged.

A 60-day notice published in the Federal Register, 87 FR 34887-88 (June 8, 2022). There were were no public comments.

Need and Proposed Use of the Information: The RWHAP HIVQM Module supports recipients and sub-recipients in their clinical quality management programs, performance measurement, service delivery, and monitoring of client health outcomes and quality HIV services. The RWHAP HIVQM Module is accessible via the RWHAP Services Report, an existing online portal that RWHAP recipients use for required data collection of their services. Recipients may enter performance measures data into the RWHAP HIVQM Module four times a year and then generate reports to assess their performance. Recipients have the option to enter data for specific populations for a subset of performance measures based on age, gender, race/ethnicity, and risk factor. Recipients may also compare their performance against other recipients in their state, regionally, and nationally. Additionally, recipients can choose the performance measures they want to monitor and enter data accordingly. For recipients and sub-recipients participating in the Centers for Medicare & Medicaid Incentive Programs, such as the Medicare Promoting Interoperability Program and the Merit-based Incentive Payment System, the RWHAP HIVQM Module may be used to monitor the HRSA measures that qualify and comply with the requirements to receive incentives from these programs.

Likely Respondents: RWHAP Part A, Part B, Part C, and Part D recipients and their sub-recipients.

Burden Statement: Burden in this context means the time expended by persons to generate, maintain, retain, disclose, or provide the information requested. This includes the time needed to review instructions; to develop, acquire, install, and utilize technology and systems for the purpose of collecting, validating and verifying information, processing and maintaining information, and disclosing and providing information; to train personnel and to be able to respond to a collection of information; to search data sources; to complete and review the collection of information; and to transmit or otherwise disclose the information. The total annual burden hours estimated for this ICR are summarized in the table below. There is a decrease in burden due to improved burden calculation obtained through conducting a pilot program.

Total Estimated Annualized Burden—Hours
Form name | Number of respondents | Number of responses per respondent | Total responses | Average burden per response (in hours) | Total burden hours
HIVQM Report | 2,063 | 4 | 8,252 | * .216/60 | 1,788
Total | 2,063 |  | 8,252 |  | 1,788
* Exact number is .216674745.

HRSA specifically requests comments on (1) the necessity and utility of the proposed information collection for the proper performance of the agency's functions, (2) the accuracy of the estimated burden, (3) ways to enhance the quality, utility, and clarity of the information to be collected, and (4) the use of automated collection techniques or other forms of information technology to minimize the information collection burden.

Maria G. Button,
Director, Executive Secretariat.

[FR Doc. 2022-20572 Filed 9-21-22; 8:45 am]

BILLING CODE 4165-15-P